DEPARTMENT OF HEALTH AND HUMAN SERVICES

National Institutes of Health

Eunice Kennedy Shriver National Institute of Child Health and Human Development; Amended Notice of Meeting

Notice is hereby given of a change in the meeting of the Eunice Kennedy Shriver National Institute of Child Health and Human Development Special Emphasis Panel, March 29, 2023, 9:30 a.m. to March 29, 2023, 6 p.m., Eunice Kennedy Shriver National Institute of Child Health and Human Development, Scientific Review Branch, 6710 B Rockledge Drive, Bethesda, MD, 20817 which was published in the Federal Register on February 13, 2023, FR Doc 2023-02980, 88 FR 9299.

This notice is being amended to replace the listed contact person. Dr. Luis Dettin will replace Dr. Cathy Wedeen. The meeting is closed to the public.

Dated: February 27, 2023.
David W. Freeman,
Program Analyst, Office of Federal Advisory Committee Policy.

[FR Doc. 2023-04361 Filed 3-2-23; 8:45 am]

BILLING CODE 4140-01-P